DEPARTMENT OF COMMERCE

International Trade Administration

Environmental Technologies Trade Advisory Committee

AGENCY: International Trade Administration, U.S. Department of Commerce.

ACTION: Notice of an open meeting of a Federal Advisory Committee.

SUMMARY: The Environmental Technologies Trade Advisory Committee (ETTAC) will hold a virtual meeting on Tuesday, April 15, 2025. The meeting is open to the public with registration instructions provided below. This notice sets forth the schedule and proposed topics for the meeting.

DATES: The meeting is scheduled for Tuesday, April 15, 2025 from 10 a.m. to 12 p.m. and 1 p.m. to 3:30 p.m. Eastern Time (ET). The deadline for members of the public to register to participate, including requests to make comments during the meeting and for auxiliary aids, or to submit written comments for dissemination prior to the meeting, is 5 p.m. EDT on Tuesday, April 8, 2025. Members of the public must register by that date to participate.

ADDRESSES: The meeting will be held virtually. Requests to register to participate (including to speak or for auxiliary aids) and any written comments should be submitted via email to Ms. Megan Hyndman, Office of Energy & Environmental Industries, International Trade Administration, at Megan.Hyndman@trade.gov.

FOR FURTHER INFORMATION CONTACT: Ms. Megan Hyndman, Office of Energy & Environmental Industries, International Trade Administration (Phone: 202-823-1839; email: Megan.Hyndman@trade.gov).

SUPPLEMENTARY INFORMATION: The ETTAC is mandated by Section 2313(c) of the Export Enhancement Act of 1988, as amended, 15 U.S.C. 4728(c), to advise the Environmental Trade Promotion Working Group of the Trade Promotion Coordinating Committee on the development and administration of programs to expand U.S. exports of environmental technologies, goods, services, and products. The ETTAC was most recently re-chartered through August 6, 2026.

On Tuesday, April 15, 2025 from 10 a.m. to 12 p.m. and 1 to 3:30 p.m. ET, the ETTAC will hold the third meeting of its current charter term. During the meeting, committee members will discuss issues affecting the competitiveness of the U.S. environmental technologies industry, deliberate on potential recommendation topics, and receive introductory briefings from U.S. government agencies involved in the trade of environmental technologies. An agenda will be made available one week prior to the meeting upon request to Megan Hyndman.

The meeting will be open to the public and time will be permitted for public comment before the close of the meeting. Members of the public seeking to attend the meeting are required to register by Tuesday, April 8, 2025 at 5 p.m. EDT, via the contact information provided above. This meeting is physically accessible to people with disabilities. Requests for sign language interpretation or other auxiliary aids should be directed to OEEI at Megan.Hyndman@trade.gov or (202) 823-1839 no less than one week prior to the meeting. Requests received after this date will be accepted, but it may not be possible to accommodate them.

Written comments concerning ETTAC affairs are welcome any time before or after the meeting. To be considered during the meeting, written comments must be received by Tuesday, April 8, 2025 at 5 p.m. EDT to ensure transmission to the members before the meeting. Draft minutes will be available within 30 days of this meeting.

Dated: March 27, 2025.
Man K. Cho,
Deputy Director, Office of Energy and Environmental Industries.

[FR Doc. 2025-05568 Filed 4-1-25; 8:45 am]

BILLING CODE 3510-DR-P